DEPARTMENT OF TRANSPORTATION

Federal Aviation Administration (FAA)

Notice of Opportunity for Public Comment on Surplus Property Release at Gastonia Municipal Airport, Gastonia, NC

AGENCY: Federal Aviation Administration (FAA), DOT.

ACTION: Notice.

SUMMARY: Under the provisions of Title 49, U.S.C. Section 47153(c), notice is being given that the FAA is considering a request from the City of Gastonia to waive the requirement that a 19.9 acre parcel of surplus property, located at the Gastonia Municipal Airport, be used for aeronautical purposes.

DATES: Comments must be received on or before August 16, 2001.

ADDRESSES: Comments on this notice may be mailed or delivered in triplicate to the FAA at the following address: Atlanta Airports District Office, 1701 Columbia Ave., Suite 2-260, Atlanta, GA 30337-2747.

In addition, one copy of any comments submitted to the FAA must be mailed or delivered to Larry W. Wood, Assistant City Manager of the City of Gastonia at the following address: Post Office Box 1748, Gastonia, NC 28053-1748.

FOR FURTHER INFORMATION CONTACT: Tracie D. Kleine, Program Manager, Atlanta Airports District Office, 1701 Columbia Ave., Suite 2-260, Atlanta, GA 30337-2747, (404) 305-7148. The application may be reviewed in person at this same location.

SUPPLEMENTARY INFORMATION: The FAA is reviewing a request by the City of Gastonia to release 19.9 acres of surplus property at the Gastonia Municipal Airport. The property will be purchased by Gaston Day School, Inc. The school plans to use this property to expand its athletic venues. The net proceeds from the sale of this property will be used for airport purposes. The proposed use of this property is compatible with airport operations.

Any person may inspect the request in person at the FAA office listed above under FOR FURTHER INFORMATION CONTACT.

In addition, any person may, upon request, inspect the request, notice and other documents germane to the request in person at the Gastonia Municipal Airport.

Issued in Atlanta, Georgia on July 9, 2001.
Scott L. Seritt,
Manager, Atlanta Airports District Office, Southern Region.

[FR Doc. 01-17863 Filed 7-16-01; 8:45 am]

BILLING CODE 4910-13-M